DEPARTMENT OF COMMERCE

Foreign-Trade Zones Board

[Docket 1-2003]

Foreign-Trade Zone 57-Asheville, North Carolina, Expansion of Manufacturing Authority—Subzone 57B Volvo Construction Equipment North America, Inc. (Construction Equipment)

An application has been submitted to the Foreign-Trade Zones Board (the Board) by Volvo Construction Equipment North America, Inc. (Volvo CENA), to expand the scope of manufacturing authority under zone procedures within Subzone 57B, at the Volvo CENA plant located at sites in the Asheville, North Carolina area. The application was submitted pursuant to the Foreign-Trade Zones Act, as amended (19 U.S.C. 81a-81u), and the regulations of the Board (15 CFR part 400). It was formally filed on January 7, 2003.

Subzone 57B was approved by the Board in 2000 at sites located at 2169 Hendersonville Rd. (U.S. Rt. 25), in Skyland, North Carolina and at 1856 Hendersonville Rd., in Asheville. Authority was granted for the manufacture of articulated haulers and wheel loaders (Board Order 1164, 66 FR 28890, 5/25/2001).

Volvo CENA is now proposing to expand the scope of manufacturing activity conducted under zone procedures at Subzone 57B to include additional finished products (skid-steer loaders and compaction rollers). These finished products fall into categories which enter the United States duty-free. Volvo CENA's application indicates that foreign-sourced materials under the proposed expanded scope fall into categories which are already included in the scope of authority granted pursuant to the company's original subzone application (65 FR 47377, 8/2/2000).

Expanded subzone authority would exempt Volvo CENA from Customs duty payments on foreign components when used in export production of the new products. On its domestic sales, Volvo CENA would be able to choose the lower duty rate that applies to the new finished products for foreign components, when applicable.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade Zones Board, U.S. Department of Commerce, Franklin Court Building—Suite 4100W, 1099 14th St., NW., Washington, DC 20005; or

2. Submissions via the U.S. Postal Service: Foreign-Trade Zones Board, U.S. Department of Commerce, FCB—Suite 4100W, 1401 Constitution Ave., NW., Washington, DC 20230.

The closing period for their receipt is February 12, 2003. Rebuttal comments in response to material submitted during the foregoing period may be submitted during the subsequent 15-day period to February 27, 2003.

A copy of the application and accompanying exhibits will be available for public inspection at the Office of the Foreign-Trade Zones Board's Executive Secretary at address Number 1 listed above, and at the U.S. Department of Commerce Export Assistance Center, 521 East Morehead St., Suite 435, Charlotte, NC 28202.

Dated: January 7, 2003.
Dennis Puccinelli,
Executive Secretary.

[FR Doc. 03-633 Filed 1-10-03; 8:45 am]

BILLING CODE 3510-DS-P